CORPORATION FOR NATIONAL AND COMMUNITY SERVICE

Agency Information Collection Activities; Submission to the Office of Management and Budget for Review and Approval; Comment Request; Application Package for Social Innovation Fund Performance Progress Report; Proposed Information Collection; Comment Request

AGENCY: Corporation for National and Community Service.

ACTION: Notice.

SUMMARY: The Corporation for National and Community Service (CNCS) has submitted a public information collection request (ICR) entitled Social Innovation Fund (SIF) Performance Progress Report (PPR) which consists of the SIF Narrative Progress Report and SIF Data Supplement for review and approval in accordance with the Paperwork Reduction Act of 1995.

DATES: Comments may be submitted, identified by the title of the information collection activity, by January 16, 2018.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, Katy Hussey-Sloniker, at 202-606-6796 or email to khussey-sloniker@cns.gov. Individuals who use a telecommunications device for the deaf (TTY-TDD) may call 1-800-833-3722 between 8:00 a.m. and 8:00 p.m. Eastern Time, Monday through Friday.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on September 22, 2017 at FR Vol. 82, No. 183, page 44393. This comment period ended November 21, 2017. No public comments were received from this Notice.

Description: The Social Innovation Fund (SIF) Performance Progress Report (PPR) consists of the SIF Narrative Progress Report and SIF Data Supplement. The PPR is customized for SIF Classic grantees, SIF Pay for Success grantees, and SIF Pay for Success Administrative Data Pilot grantees. Instructions for all three versions of the PPR reporting requirements are included in this information collection request. CNCS seeks to renew the current information collection. The information collection will otherwise be used in the same manner as the existing application. CNCS also seeks to continue using the current application until the revised application is approved by OMB. The current application is due to expire on February 28, 2018.

Type of Review: Renewal.

Agency: Corporation for National and Community Service.

Title: Social Innovation Fund Performance Progress Report.

OMB Number: 3045-0168.

Agency Number: None.

Affected Public: Businesses or Organizations.

Total Respondents: 47.

Frequency: 2 times annually.

Average Time per Response: 10 hrs.

Estimated Total Burden Hours: 940 hrs.

Total Burden Cost (capital/startup): None.

Total Burden Cost (operating/maintenance): None.

Dated: December 6, 2017.
Chester Spellman,
Director, AmeriCorps State & National.

[FR Doc. 2017-27028 Filed 12-14-17; 8:45 am]

BILLING CODE 6050-28-P